DEPARTMENT OF THE INTERIOR

Bureau of Land Management

[LLAZ920000.19X.L51010000.ER0000.LVRWA19A3240]

Notice of Availability for the Final Environmental Impact Statement for the Ten West Link 500-Kilovolt Transmission Line Project and Proposed Amendments to the Yuma Field Office Resource Management Plan and the California Desert Conservation Area Plan; Maricopa and La Paz Counties, Arizona, and Riverside County, California

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared the Final Environmental Impact Statement (EIS) for the proposed Ten West Link 500-Kilovolt (kV) Transmission Line Project and Amendments to the Yuma Field Office Resource Management Plan (RMP) and the California Desert Conservation Area (CDCA) Plan and by this notice is announcing its availability.

DATES: The BLM planning regulations state that any person who meets the conditions as described in the regulations may protest the BLM's Proposed Plan Amendments. A person who meets the conditions and wishes to file a protest must do so within 30 days of the date that the Environmental Protection Agency publishes its Notice of Availability in the Federal Register.

ADDRESSES: The Final EIS and Proposed Plan Amendments are available on the BLM ePlanning project website at https://go.usa.gov/xU6Be. Hard copies of the Final EIS and Proposed Plan Amendments are available for public inspection at the BLM Arizona State Office, One North Central Avenue, Suite 800, Phoenix, AZ 85004, the BLM Yuma Field Office, 7341 East 30th Street, Suite A, Yuma, AZ 85365, and the BLM Palm Springs-South Coast Field Office, 1201 Bird Center Drive, Palm Springs, CA 92262. Instructions for filing a protest with the Director of the BLM regarding the Proposed Plan Amendments may be found online at https://www.blm.gov/programs/planning-and-nepa/public-participation/filing-a-plan-protest and at 43 CFR 1610.6-2.

FOR FURTHER INFORMATION CONTACT: Lane Cowger, Project Manager, telephone: 602-417-9612; address: BLM, Arizona State Office, One North Central Avenue, Suite 800, Phoenix, AZ 85004; email: blm_az_azso_10westlink@blm.gov. Persons who use a telecommunications device for the deaf (TDD) may call the Federal Relay Service (FRS) at 1-800-877-8339 to contact Mr. Cowger. The FRS is available 24 hours a day, 7 days a week, to leave a message or question with Mr. Cowger. You will receive a reply during normal business hours.

SUPPLEMENTARY INFORMATION: The BLM prepared the Final EIS for the proposed Ten West Link 500-kV Transmission Line Project and proposed amendments to the Yuma Field Office RMP and the CDCA Plan to respond to DCR Transmission's request for a right-of-way (ROW) across public land to construct, operate, maintain, and decommission a 500kV transmission line between the Arizona Public Service Delaney Substation near Tonopah in Maricopa County, Arizona, and the Southern California Edison Colorado River Substation near Blythe in Riverside County, California. The BLM's purpose and need for the action is to respond to an application for a ROW and decide whether to approve, approve with modifications, or deny the ROW.

Portions of the Proposed Action and/or Action Alternatives would not be in conformance with the Yuma RMP and the CDCA Plan. Therefore, the BLM considered amending these plans in connection with its consideration of DCR Transmission's ROW application.

The Agency Preferred Alternative identified in the FEIS is 125.0 miles long. This alternative is predominantly within BLM-designated utility corridors or adjacent to existing infrastructure and draws on the environmental analysis and stakeholder input to avoid sensitive environmental resources and important recreational uses on public lands. The Agency Preferred Alternative avoids the Kofa National Wildlife Refuge and Tribal lands. It minimizes impacts to local communities and the U.S. Army's Yuma Proving Ground, and provides interconnections for future energy development projects. The Agency Preferred Alternative includes an amendment to the Yuma RMP to allow ROWs outside of designated BLM utility corridors based on project-specific analysis. The Agency Preferred Alternative would also require an amendment to the CDCA Plan to allow construction of the Ten West Link project within 0.25-mile of occurrences of Harwood's eriastrum, a BLM special status plant species.

Issues identified as part of the NEPA and planning process and addressed in the Final EIS/Proposed Plan Amendments includes soil, biological, visual, and cultural resources, Tribal concerns, land use, recreation, socioeconomics, and environmental justice. Comments received from the public and internal BLM review, on the Draft EIS and Plan Amendments were considered and incorporated as appropriate into the Final EIS and Proposed Plan Amendments. Changes to the Final EIS include incorporation of more detailed project design and engineering information and clarification of the proposed Yuma and Lake Havasu Field Office RMP Amendments considered by the BLM for each alternative, including the Agency Preferred Alternative.

The Final EIS analyzes in detail the direct, indirect, and cumulative impacts for a range of alternatives including the No Action, Proposed Action, Interstate 10, BLM Utility Corridor, Avoidance, and Public Lands Emphasis alternatives and includes the proposed RMP and Plan amendments described for the Preferred Alternative, as well as amendments to the Yuma and Lake Havasu Field Office RMPs for visual resource management classes for some alternative route segments.

DCR Transmission has filed an application for a Certificate of Public Convenience and Necessity (CPCN) with the California Public Utilities Commission (CPUC) to site the transmission infrastructure in California. The CPUC approval or denial of the CPCN application is a discretionary decision. Under California law, the CPUC would be required to comply with the California Environmental Quality Act (CEQA) before issuing the CPCN. The CPUC is currently a cooperating agency in the BLM's NEPA analysis. Pursuant to the Public Resources Code 21083.5 and the CEQA Guidelines (California Code of Regulations, Title 14, Division 6, Chapter 3) Section 15221, the CPUC may rely upon this EIS in lieu of all or any part of an Environmental Impact Report (EIR). Furthermore, this Notice of Availability serves as the notice that the CPUC will consider the EIS in its decision-making process relevant to issuance of the CPCN (CEQA Guidelines, Section 15225).

All protests must be in writing and submitted as set forth in the DATES and ADDRESSES sections above. Before including your address, phone number, email address, or other personal identifying information in your protest, please be aware that your entire protest, including your personal identifying information, may be made publicly available at any time. While you can ask us in your comment to withhold your personal identifying information from public review, we cannot guarantee that we will be able to do so.

Authority: 40 CFR 1506.6, 40 CFR 1506.10, 43 CFR 1610.2, 43 CFR 1610.5.

Raymond Suazo,
Arizona State Director.

[FR Doc. 2019-19871 Filed 9-12-19; 8:45 am]

BILLING CODE 4310-32-P